DEPARTMENT OF COMMERCE

International Trade Administration

[A-201-836, A-570-914, A-580-859]

Light-Walled Rectangular Pipe and Tube from Mexico, the People's Republic of China, and the Republic of Korea: Antidumping Duty Orders; Light-Walled Rectangular Pipe and Tube from the Republic of Korea: Notice of Amended Final Determination of Sales at Less Than Fair Value

AGENCY: Import Administration, International Trade Administration, Department of Commerce.

SUMMARY: Based on affirmative final determinations by the Department of Commerce (the Department) and the International Trade Commission (the Commission), the Department is issuing antidumping duty orders on light-walled rectangular pipe and tube from Mexico, the People's Republic of China (the PRC), and the Republic of Korea (Korea). On July 28, 2008, the Commission notified the Department of its affirmative determination of material injury to a U.S. industry and its negative determination of critical circumstances. See Light-Walled Rectangular Pipe and Tube from China, Korea and Mexico (Investigation Nos. 731-TA-1118-1120 (Final), USITC Publication 4024, July 2008).

EFFECTIVE DATE: August 5, 2008.

FOR FURTHER INFORMATION CONTACT: Patrick Edwards (Mexico), Jeffrey Pedersen (the PRC), or Mark Flessner (Korea), Import Administration, International Trade Administration, U.S. Department of Commerce, 14th Street and Constitution Avenue, NW, Washington, DC 20230; tel.: (202) 482-8029, (202) 482-2769, or (202) 482-6312, respectively.

SUPPLEMENTARY INFORMATION:

Background

On June 24, 2008, the Department published its final determinations of sales at less-than-fair-value in the antidumping duty investigations of light-walled rectangular pipe and tube from Korea, Mexico and the PRC. See Notice of Final Determination of Sales at Less Than Fair Value: Light-Walled Rectangular Pipe and Tube from the Republic of Korea, 73 FR 35655 (Korea Final Determination); Notice of Final Determination of Sales at Less Than Fair Value: Light-Walled Rectangular Pipe and Tube from Mexico, 73 FR 35649; and Final Determination of Sales at Less Than Fair Value and Affirmative Determination of Critical Circumstances, in Part: Light-Walled Rectangular Pipe and Tube from the People's Republic of China, 73 FR 35652 (PRC Final Determination) (all published June 24, 2008).

On July 7, 2008, Nexteel Co., Ltd. (Nexteel), respondent in the Korea investigation, timely alleged a single ministerial error for the Korea Final Results. See “Amendment to the Korea Final Determination,” below.

In response to timely allegations of ministerial errors filed by respondents Maquilacero S.A. de C.V. and Productos Laminados de Monterrey S.A. de C.V., an amended final determination with respect to the Mexico investigation was signed on July 24, 2008, but did not publish in the Federal Register prior to signing of the instant notice.

On July 28, 2008, the Commission notified the Department of its final determination pursuant to section 735(b)(1)(A)(i) of the Tariff Act of 1930, as amended (the Act), that an industry in the United States is materially injured by reason of less-than-fair-value imports of subject merchandise from Korea, Mexico and the PRC.

Scope of the Orders

The merchandise subject to these orders is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to these orders is currently classified under the Harmonized Tariff Schedule of the United States (HTSUS) subheadings 7306.61.50.00 and 7306.61.70.60. While HTSUS subheadings are provided for convenience and Customs purposes, our written description of the scope of these orders is dispositive.

Amendment to the Korea Final Determination

On July 7, 2008, Nexteel, the sole active respondent in the Korea investigation, timely alleged a single ministerial error in the Korea Final Determination. Nexteel contends that the Department inadvertently calculated the company's margin using an outdated cost of production (COP) database. Although the program references the correct database by name, Nexteel states, the actual cost data reflect an earlier superannuated version of Nexteel's cost data. Petitioners did not comment on Nexteel's allegation.

We have determined, in accordance with section 735(e) of the Act, that we did, in fact, make the error as alleged by Nexteel. As a result of substituting the correct COP database, the final determination dumping margin for Nexteel has changed from 1.30 percent to 0.92 percent. This correction does not affect Nexteel's exclusion from the antidumping duty order on light-walled rectangular pipe and tube from Korea, as Nexteel's margin remains de minimis. However, the all-others rate for the Korea investigation has changed from the 15.98 percent published in the Korea Final Determination to 15.79 percent.

Antidumping Duty Orders

On July 28, 2008, in accordance with section 735(d) of the Act, the Commission notified the Department of its final determination that the industry in the United States producing light-walled rectangular pipe and tube is materially injured within the meaning of section 735(b)(1)(A)(i) of the Act by reason of less-than-fair-value imports of subject merchandise from Korea, Mexico and the PRC.

In accordance with section 736(a)(1) of the Act, the Department will direct U.S. Customs and Border Protection (CBP) to assess, upon further advice by the Department, antidumping duties equal to the amount by which the normal value of the merchandise exceeds the export price or constructed export price of the merchandise for all relevant entries of light-walled rectangular pipe and tube from Korea, Mexico and the PRC. These antidumping duties will be assessed on all unliquidated entries of light-walled rectangular pipe and tube entered, or withdrawn from warehouse, for consumption on or after January 30, 2008, the date on which the Department published its notices of preliminary determination in the Federal Register, with the exception of that merchandise produced by Nexteel Co., Ltd., which is excluded from the antidumping duty order on light-walled rectangular pipe and tube from Korea. See 19 CFR 351.204(e).

With regard to the negative critical circumstances determinations for the PRC, we will instruct CBP to lift suspension, release any bond or other security, and refund any cash deposit made to secure the payment of antidumping duties with respect to entries of the merchandise from the PRC entered, or withdrawn from warehouse, for consumption on or after November 1, 2007, but before January 30, 2008 (i.e., the 90 days prior to the date of publication of the preliminary determination in the Federal Register with respect to the PRC).

On or after the date of publication of the Commission's notice of final determination in the Federal Register, CBP must require, at the same time as importers would normally deposit estimated duties on this merchandise, a cash deposit equal to the estimated dumping margins as noted below:

Country | Manufacturer/exporter | Weighted-Average Margin (percent)
Korea (weighted average) | Nexteel Co., Ltd. | 0.92 (de minimis)
| Dong-A Steel Pipe Co. Ltd. | 30.66
| HiSteel Co. Ltd. | 30.66
| Jinbang Steel Co. Ltd. | 30.66
| Joong Won | 30.66
| Miju Steel Mfg. Co., Ltd. | 30.66
| Yujin Steel Industry Co. | 30.66
| Ahshin Pipe & Tube | 30.66
| Han Gyu Rae Steel Co., Ltd. | 30.66
| Kukje Steel Co., Ltd. | 30.66
| SeAH Steel Corporation, Ltd. | 15.79
| All others | 15.79
Mexico | Maquilacero S.A. de C.V. | 2.40
| Productos Laminados de Monterrey S.A. de C.V. | 5.12
| Arco Metal S.A. de C.V. | 3.76
| Hylsa S.A. de C.V. | 3.76
| Internacional de Aceros S.A. de C.V. | 3.76
| Perfiles y Herrajes LM, S.A. de C.V. | 3.76
| Regiomontana de Perfiles y Tubos | 3.76
| Talleres Acero Rey S.A. de C.V. | 3.76
| Tuberia Laguna S.A. de C.V. | 3.76
| Industrias Monterrey S.A. de C.V. | 11.50
| Nacional de Acero S.A. de C.V. | 11.50
| PEASA-Productos Especializados de Acero | 11.50
| Tuberias Aspe | 11.50
| Tuberias y Derivados S.A. de C.V. | 11.50
| All Others | 3.76
People's Republic of China | Zhangjiagang Zhongyuan Pipe-Making Co., Ltd./ Zhangjiagang Zhongyuan Pipe-Making Co., Ltd. | 264.64
| Kunshan Lets Win Steel Machinery Co., Ltd./ Kunshan Lets Win Steel Machinery Co., Ltd. | 249.12
| Wuxi Baishun Steel Pipe Co., Ltd./ Wuxi Baishun Steel Pipe Co., Ltd. | 249.12
| Guangdong Walsall Steel Pipe Industrial Co., Ltd./ Guangdong Walsall Steel Pipe Industrial Co., Ltd. | 249.12
| Wuxi Worldunion Trading Co., Ltd./ Wuxi Hongcheng Bicycle Material Co., Ltd. | 249.12
| Weifang East Steel Pipe Co., Ltd./Weifang East Steel Pipe Co., Ltd. | 249.12
| Jiangyin Jianye Metal Products Co., Ltd./Jiangyin Jianye Metal Products Co., Ltd. | 249.12
| PRC-Wide Rate | 264.64

This notice constitutes the antidumping duty orders with respect to light-walled rectangular pipe and tube from Korea, Mexico and the PRC, pursuant to section 736(a) of the Act. Interested parties may contact the Department's Central Records Unit, Room 1117 of the Main Commerce Building, for copies of an updated list of antidumping duty orders currently in effect.

These orders are issued and published in accordance with section 736(a) of Act and 19 CFR 351.211(b).

Dated: July 30, 2008.
David M. Spooner,
Assistant Secretary for Import Administration.

[FR Doc. E8-18013 Filed 8-4-08; 8:45 am]

BILLING CODE 3510-DS-S